DEPARTMENT OF ENERGY

Federal Energy Regulatory Commission

[Docket Nos. CP12-509-000; CP12-29-000]

Freeport LNG Liquefaction Project, Phase II Modification Project; Notice of Availability of Final General Conformity Determination

In accordance with the National Environmental Policy Act of 1969, the Clean Air Act and the Federal Energy Regulatory Commission's (Commission or FERC's) regulations, Commission staff has prepared this final General Conformity Determination (GCD) for the Freeport LNG Liquefaction and Phase II Modification Projects (collectively called Projects) to ensure that the Projects do not violate the Texas State Implementation Plan and address the potential air quality impacts associated with the construction and operation of liquefied natural gas facilities proposed by Freeport LNG Development, L.P., FLNG Liquefaction, LLC, FLNG Liquefaction 2, LLC, and FLNG Liquefaction 3, LLC (collectively known as Freeport LNG).

The FERC staff concludes that the Projects will achieve conformity with the Texas State Implementation Plan and has received concurrence from the Texas Commission on Environmental Quality.

Freeport LNG's development is composed of multiple components in Brazoria County, Texas. The main Liquefaction Plant, located on Quintana Island, will be three propane pre-cooled mixed refrigerant trains, each with a capacity of 4.4 million metric tons per year of liquefied natural gas (LNG) for export, which equates to a total liquefaction capacity of approximately 1.8 billion cubic feet per day of natural gas. The trains and their support facilities are collectively referred to as the Liquefaction Plant.

In addition to the Liquefaction Plant described above, Freeport LNG proposes to construct various facilities, both at and adjacent to the Quintana Island Terminal and beyond Quintana Island, to support the liquefaction and export operation. These facilities include a natural gas Pretreatment Plant located about 3.5 miles north of the Terminal, and several interconnecting pipelines and utility lines called the Pipeline/Utility Line System.

In addition, for additional information on the Projects, the public can view the final environmental impact statement on our Web site at http://www.ferc.gov/industries/gas/enviro/eis/2014/06-16-14-eis.asp. The full final General Conformity Determination, and response to comments, may be found on FERC's elibrary system under the above references Docket numbers.

For further information, contact Eric Tomasi by telephone at 202-502-8097 or by email at Eric.Tomasi@ferc.gov.

Dated: September 15, 2014.
Kimberly D. Bose,
Secretary.

[FR Doc. 2014-22799 Filed 9-24-14; 8:45 am]

BILLING CODE 6717-01-P